DEPARTMENT OF DEFENSE

Office of the Secretary

[Docket ID DoD-2014-OS-0135]

Proposed Collection; Comment Request

AGENCY: Office of the Under Secretary of Defense (Personnel and Readiness).

ACTION: Notice.

SUMMARY: In compliance with the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 17, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Federal Voting Assistance Program ATTN: Mr. David Beirne, 4800 Mark Center Drive, Suite 03J25, Alexandria, VA 22350, or call at (571) 372-0740.

SUPPLEMENTARY INFORMATION:

Title; Associated Form; and OMB Number: Survey of Overseas Civilians, OMB Control Number 0704-XXXX.

Needs and Uses: The information collection requirement is necessary for Federal Voting Assistance Program (FVAP), an agency of the Department of Defense, to fulfill the mandate of the Uniformed and Overseas Citizens Absentee Voting Act (UOCAVA of 1986 [42 U.S.C. 1973ff]). UOCAVA requires a statistical analysis report to the President and Congress on the effectiveness of assistance under the Act, a statistical analysis of voter registration and participation, and a description of State/Federal cooperation after each federal election. The data obtained through this study will allow FVAP to assess the feasibility of using survey data to assess registration and participation rates for non-military U.S. citizens living overseas.

Affected Public: Non-military UOCAVA voters.

Annual Burden Hours: 7,500.

Number of Respondents: 45,000.

Responses per Respondent: 1.

Average Burden per Response: 10 minutes.

Frequency: One time.

The Uniformed and Overseas Citizens Absentee Voting Act (UOCAVA) requires the States to allow Uniformed Services personnel, their family members, and overseas citizens to use absentee registration procedures and to vote by absentee ballot in general, special, primary, and runoff elections for Federal offices. The Act covers members of the Uniformed Services and the merchant marine to include the commissioned corps of the National Oceanic and Atmospheric Administration and Public Health Service and their eligible dependents, Federal civilian employees overseas, and overseas U.S. citizens not affiliated with the Federal Government. Subsequent to each Presidential election year, FVAP must report voter registration and participation rates for uniformed service voters and overseas citizens to Congress; while FVAP collects data for this report through regular surveys of uniformed service voters and other relevant UOCAVA populations, it does not currently collect data from non-military, non-government overseas civilians. The Survey of Overseas Civilians research project will serve as a pilot, examining the feasibility of collecting data from this population by surveying a sample of registered voters living overseas during the 2014 election. Collecting information from this population will also support FVAP in its purpose of ensuring that Service members, their eligible family members and overseas citizens are aware of their right to vote and have the tools and resources to successfully do so from anywhere in the world. In addition to determining the feasibility of conducting a survey of overseas civilians, the information collected will be used for overall program evaluation, management and improvement, and to compile the congressionally-mandated report to the President and Congress after the 2016 General Election should this pilot prove successful.

Dated: September 11, 2014.
Aaron Siegel,
Alternate OSD Federal Register, Liaison Officer, Department of Defense.

[FR Doc. 2014-22014 Filed 9-15-14; 8:45 am]

BILLING CODE 5001-06-P